DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Therapeutic Administration of the Scrambled Anti-Angiogenic Peptide C16Y

K.E. Csaky (NEI), M.L. Ponce (NEI), H. Kleinman (NIDCR)

PCT Application No. PCT/US04/04142 filed 12 Feb 2004 (DHHS Reference No. E-008-2004/0-PCT-01)

Licensing Contact: Susan Rucker; 301/435-4478; ruckersu@mail.nih.gov.

This application relates to the field of anti-angiogenesis. In particular, the application describes and claims compositions and methods useful for treating diseases associated with angiogenesis such as macular degeneration (AMD), diabetic retinopathy, neovascular glaucoma and cancers associated with solid tumors particularly, breast cancer. The compositions and methods offer alternatives to other ocular anti-angiogenic agents currently in development due to their ease of manufacture and mode of action on an integrin pathway.

The compositions and methods utilize a synthetic peptide of between 8 and 12 amino acid residues derived from a region of the γ1 chain of laminin-1 that binds to endothelial cell integrins αvβ3 and α5β1. The preferred embodiment, designated C16Y, is 12 amino acids in length and is easily prepared by conventional peptide synthesis. The anti-angiogenic properties of the C16Y peptide have been demonstrated in an in vitro model of choroidal neovascularization and in tumor-bearing mice.

This work has been published, in part at ML Ponce et al., Cancer Research 63(16): 5060 (Aug 15, 2003).

Hybrid Adeno-Retroviral Vector for the Transformation of Cells

Changyu Zheng, Brian C. O'Connell, Bruce J. Baum (NIDCR)

U.S. Provisional Application No. 60/179,327 filed 31 Jan 2000 (DHHS Reference No. E-258-1998/0-US-01); PCT Application No. PCT/US01/03026 filed 30 Jan 2001 (DHHS Reference No. E-258-1998/0-PCT-02); U.S. Patent Application No. 10/182,644 filed 30 Jul 2002 (DHHS Reference No. E-258-1998/0-US-03)

Licensing Contact: Jesse Kindra; 301/435-5559; kindraj@mail.nih.gov.

The invention described and claimed in this patent application provides for novel hybrid vectors which may be used for cell transformation, either in vivo or in vitro. The hybrid vectors have an adenoviral backbone with retroviral long terminal repeats (LTRs). Such vectors are capable of transforming dividing or non-dividing cells and integrate stably into the chromosome providing a means of efficient, reliable, long-term gene expression. The vector was packaged as a recombinant adenovirus and delivered to the target cell. Unlike other chimeric or hybrid vector systems, only a single vector is required to deliver a transgene of interest, and retroviral structural proteins are not required.

This work has been published, in part, in: Zheng et al., Nature Biotechnol. (2000 Feb) 18(2):176-180; Zheng et al., Biochem. Biophys. Res. Commun. (2002 Feb 15) 291(1):34-40; Zheng et al., Biochem. Biophys. Res. Commun. (2003 Jan 3) 300(1):115-20; Zheng et al., Virology (2003 Sep 1) 313(2):460-72.

Antitumor Macrocyclic Lactones

Michael R. Boyd (NCI)

U.S. Patent No. 6,353,019 issued 05 Mar 2002 (DHHS Reference No. E-244-1997/0-US-07) and related foreign patent applications; and

Vacuolar-Type (H+)-ATPase-Inhibiting Compounds and Uses Thereof

Michael R. Boyd (NCI)

U.S. Patent Application No. 09/914,708 filed 31 Aug 2001 (DHHS Reference No. E-244-1997/3-US-06) and related foreign patent applications

Licensing Contact: George Pipia; 301/435-5560; pipiag@mail.nih.gov.

This technology covers a broad composition of matter which includes the salicylihalamides, lobatamides, and numerous other structurally related small molecules which have been shown to inhibit mammalian vacuolar ATPase at low nanomolar concentrations. The compounds are also potent inhibitors of cancer cell growth, with particular specificity for melanoma, osteosarcoma and selected lung, colon and CNS tumor cell lines. Experimental tumor and pharmacokinetic studies are underway to select the most effective analogs for further development. The potential of these compounds to inhibit invasion and metastasis to bone sites is also under investigation.

Dated: April 7, 2004.
Steven M. Ferguson,
Director, Division of Technology Development and Transfer, Office of Technology Transfer, National Institutes of Health.

[FR Doc. 04-8493 Filed 4-14-04; 8:45 am]

BILLING CODE 4140-01-P